OFFICE OF PERSONNEL MANAGEMENT

5 CFR Part 532

RIN 3206-AL79

Prevailing Rate Systems; Redefinition of the Fresno and Stockton, CA, Appropriated Fund Federal Wage System Wage Areas

AGENCY: U.S. Office of Personnel Management.

ACTION: Final rule.

SUMMARY: The U.S. Office of Personnel Management is issuing a final rule to redefine the geographic boundaries of the Fresno and Stockton, CA, appropriated fund Federal Wage System (FWS) wage areas. The final rule redefines Mariposa and Merced Counties and the Yosemite National Park portion of Madera and Tuolumne Counties, CA, to the Stockton wage area. These changes are based on recent consensus recommendations of the Federal Prevailing Rate Advisory Committee to best match the counties proposed for redefinition to a nearby FWS survey area.

DATES: Effective date: This regulation is effective on May 13, 2009.

Applicability date: The affected employees in Mariposa and Merced Counties and the Yosemite National Park portion of Madera and Tuolumne Counties will be placed on the wage schedule for the Stockton wage area on the first day of the first applicable pay period beginning on or after June 12, 2009.

FOR FURTHER INFORMATION CONTACT: Madeline Gonzalez, (202) 606-2838; email pay-performance-policy@opm.gov; or FAX: (202) 606-4264.

SUPPLEMENTARY INFORMATION: On February 4, 2009, the U.S. Office of Personnel Management (OPM) issued a proposed rule (74 FR 6003) to redefine the geographic boundaries of the Fresno and Stockton, CA, appropriated fund Federal Wage System (FWS) wage areas for blue-collar Federal employees. The proposed rule would redefine Mariposa and Merced Counties and the Yosemite National Park portion of Madera and Tuolumne Counties, CA, to the Stockton FWS wage area. The 30-day comment period ended on March 6, 2009. Public comments supported these changes but numerous white-collar General Schedule (GS) employees also recommended that Fresno, Stanislaus, and Tulare Counties, CA, be moved from the Rest of U.S. (RUS) GS locality pay area to the San Jose-San Francisco-Oakland, CA GS locality pay area.

The recommendation on GS locality pay areas is beyond the scope of this rule. The proposed rule addressed only blue-collar FWS wage area boundaries, not white-collar GS locality pay area boundaries. Therefore, this final regulation does not make changes to GS locality pay areas.

Mariposa and Merced Counties and the Yosemite National Park portion of Madera and Tuolumne Counties are currently defined to the Fresno FWS area of application and coincide with the RUS GS locality pay area. Analysis of OPM's regulatory criteria for defining FWS wage area boundaries shows that Mariposa and Merced Counties and the Yosemite National Park portion of Madera and Tuolumne Counties are more appropriately defined as part of the Stockton FWS area of application. This final regulation will, therefore, redefine Mariposa and Merced Counties and the Yosemite National Park portion of Madera and Tuolumne Counties to the Stockton FWS area of application. Because this final regulation makes no changes to GS locality pay areas, Mariposa and Merced Counties and the Yosemite National Park portion of Madera and Tuolumne Counties will continue to coincide with the RUS GS locality pay area.

Fresno and Tulare Counties are part of the Fresno FWS wage area and Stanislaus County is part of the Stockton FWS wage area. This regulation makes no changes to the FWS definition of these counties. Fresno, Stanislaus, and Tulare Counties will also continue to coincide with the RUS GS locality pay area.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of California is amended by revising the listings for Fresno and Stockton, to read as follows:

Appendix C to Subpart B of Part 532—Appropriated Fund Wage and Survey Areas

* * * * *

California
Fresno
Survey Area
California:
Fresno
Kings
Tulare
Area of Application. Survey area plus:
California:
Kern (Does not include China Lake Naval Weapons Center, Edwards Air Force Base, and portions occupied by Federal activities in Boron (City).)
Madera (Does not include Devils Postpile National Monument and Yosemite National Park portions.)
* * * * *
Stockton
Survey Area
California:
San Joaquin
Area of Application. Survey area plus:
California:
Calaveras
Madera (Only includes Yosemite National Park portion.)
Mariposa
Merced
Stanislaus
Tuolumne

* * * * *

[FR Doc. E9-11193 Filed 5-12-09; 8:45 am]

BILLING CODE 6325-39-P